DEPARTMENT OF ENERGY

Federal Energy Regulatory Commission

[Project No. 14227-003]

Nevada Hydro, Inc.; Notice of Intent To Prepare an Environmental Impact Statement and Soliciting Scoping Comments

Take notice that the following hydroelectric application has been filed with the Federal Energy Regulatory Commission (FERC or Commission) and is available for public inspection. Commission staff has determined that this project qualifies as a Major Infrastructure Project pursuant to the Memorandum of Understanding Implementing One Federal Decision under Executive Order 13807, effective April 10, 2018. Major Infrastructure Projects are defined as projects for which multiple authorizations by federal agencies will be required and the lead federal agency has determined that it will prepare an Environmental Impact Statement (EIS) under the National Environmental Policy Act, 42 U.S.C. 4321 et seq.

a. Type of Application: Major Unconstructed Project.

b. Project No.: P-14227-003.

c. Date filed: October 2, 2017.

d. Applicant: Nevada Hydro, Inc.

e. Name of Project: Lake Elsinore Advanced Pumped Storage (LEAPS) Project.

f. Location: On Lake Elsinore and San Juan Creek near the city of Lake Elsinore in Riverside and San Diego Counties, California. The project would occupy about 845 acres of federal land administered by the U.S. Forest Service.

g. Filed Pursuant to: Federal Power Act, 16 U.S.C. 791(a)-825(r).

h. Applicant Contact: Rexford Wait, Nevada Hydro Company, Inc., 2416 Cades Way Vista, California (760) 599-1815.

i. FERC Contact: Kyle Olcott at (202) 502-8963; email—kyle.olcott@ferc.gov.

j. U.S. Forest Service Contact: Scott Tangenberg at (858) 674-2983; email—scott.tangenberg@usda.gov.

k. With this notice, we are soliciting comments on Commission staff's Scoping Document 1 (SD1), issued June 18, 2020. Deadline for filing scoping comments: August 17, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14227-003.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

l. This application is not ready for environmental analysis at this time.

m. The proposed project would consist of the following: (1) A new upper reservoir (Decker Canyon) having a 200-foot-high main dam and a gross storage volume of 5,750 acre-feet, at a normal reservoir surface elevation of 2,792 feet above mean sea level (msl); (2) a powerhouse with two reversible pump-turbine units with a total installed capacity of 500 megawatts; (3) the existing Lake Elsinore to be used as a lower reservoir; (4) about 32 miles of 500-kilovolt transmission line connecting the project to an existing transmission line owned by Southern California Edison located north of the proposed project and to an existing San Diego Gas & Electric Company transmission line located to the south.

n. In addition to publishing the full text of this document in the Federal Register, the Commission provides all interested persons an opportunity to view and/or print the contents of this document via the internet through the Commission's website at http://www.ferc.gov using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

o. You may also register online at http://www.ferc.gov/docs-filing/esubscription.asp to be notified via email of new filings and issuances related to this or other pending projects. For assistance, contact FERC Online Support.

p. Scoping Process

Commission staff intends to prepare an EIS on the project in accordance with the National Environmental Policy Act. The EIS will consider both site-specific and cumulative environmental impacts and reasonable alternatives to the proposed action. Due to restrictions on mass gatherings related to COVID-19, Commission staff is unable to conduct any on-site scoping meetings. Instead, we are soliciting written comments, recommendations, and information on SD1.

Copies of SD1 outlining the subject areas to be addressed in the EIS were distributed to the parties on the Commission's mailing list. Copies of SD1 may be viewed on the web at http://www.ferc.gov using the eLibrary link (see item n above). For assistance, call (866) 208-3676 or for TTY, (202) 502-8659.

Objectives

Commission staff requests written comments to assist us with our environmental analysis of the proposed project. These purpose of these written comments is to: (1) Obtain all available information, especially quantifiable data, on the resources at issue; (2) encourage statements from experts and the public on issues that should be analyzed in the EIS, including viewpoints in opposition to, or in support of, the staff's preliminary views; (3) determine the resource issues to be addressed in the EIS; and (4) identify those issues that require a detailed analysis, as well as those issues that do not require a detailed analysis.

Procedures

Individuals, organizations, and agencies with environmental expertise and concerns are encouraged to submit written comments and to assist the staff in defining and clarifying the issues to be addressed in the EIS.

Following issuance of the final EIS, the cooperating agencies will issue subsequent decisions, determinations, permits, or authorizations for the project in accordance with each individual agency's regulatory requirements. As a cooperating agency under One Federal Decision,¹ the U.S. Department of Agriculture (USDA), Forest Service will adopt and use FERC's EIS to comply with the National Environmental Policy Act and consider: (1) The issuance of Special Use Authorizations; and (2) potential amendments to the 2005 Cleveland National Forest Land Management Plan (LMP). The responsible official for forest plan amendments is the Cleveland National Forest Supervisor. Accordingly, this notice also serves to provide information on the Forest Service's requirements and processes for the two actions listed above, including opportunities for public comment.

¹ In accordance with Executive Order 13807 (Establishing Discipline and Accountability in the Environmental Review and Permitting Process for Infrastructure Projects), the project EIS should include an adequate level of detail to inform agency decisions pursuant to their specific statutory authority and requirements and allow the Forest Service to issue project authorizations in a timely manner (Section 5(b)(iii)). The Forest Service will be a cooperating agency with FERC on the EIS.

USDA Forest Service Requirements for Plan Amendments To Address Deviations From Plan Standards

When a proposed project is inconsistent with the applicable LMP components, the responsible official shall take one of the following steps, subject to valid existing rights: (1) Modify the proposed project or activity to make it consistent with the applicable plan components; (2) Reject the proposal or terminate the project or activity; (3) Amend the plan so that the project or activity will be consistent with the plan as amended; or (4) Amend the plan contemporaneously with the approval of the project or activity so that the project or activity will be consistent with the plan as amended. This amendment may be limited to apply only to the project or activity.

Based on the information provided in the project proposal, the Cleveland National Forest anticipates that one or more project-specific plan amendments will be needed to ensure consistency with the LMP. An overview of the Forest Service's requirements for amending LMPs as well as additional information regarding the proposed project-specific amendments follow.

• There is a requirement for public input at various stages, starting with this notice initiating scoping. Specifically, the Forest Service is seeking public input on issues and planning rule requirements related to possible amendments to the Cleveland National Forest LMP.

• Project-specific amendment(s) are subject to the Forest Service's pre-decisional administrative review process (36 CFR part 218, subparts A and B ²).

² 36 CFR 219.59(b) (Use of other administrative review processes).

• The standard 45-day public comment period for project-specific amendment(s) (36 CFR 219.16 (a)(2)) would be combined with the Notice of Availability for the draft EIS—a minimum 45-day comment period is required on a draft EIS per the National Environmental Policy Act (40 CFR 1506.10 (c)). Forest Service regulations allow the combining of public notices (36 CFR 219.13(b)(2)).

Potential USDA Forest Service Project-Specific Plan Amendments

Due to uncertainties regarding the project design and potential environmental effects, the Forest Service is providing its best estimate of the potential plan components that would need to be amended. The responsible official is also required to include information about which substantive requirements of 36 CFR 219.8 through 219.11 are likely to be directly related to the amendment(s). Although the exact project-specific amendment(s) cannot yet be determined, Table 1 outlines the Forest Service's preliminary assessment of applicable LMP standards (that may need project-specific amendments) and the substantive requirements that may apply.

Table 1—Forest Service's Preliminary Review of Applicable Cleveland LMP Standards & Potential Project-Specific Amendments
LMP standard | Substantive requirements 36 CFR 219.8 to 219.11 that may apply
Forest-Specific Design Criteria
Cleveland National Forest Standard 5—Consolidate major transportation and utility corridors by co-locating facilities and/or expanding existing corridors | 36 CFR 219.10 (a)(2); 36 CFR 219.10(a)(3).
Aesthetic Management Standards and Recreation
S9: Design management activities to meet the Scenic Integrity Objectives (SIOs) shown on the Scenic Integrity Objectives Map | 36 CFR 219.10(b)(1)(i).
S10: Scenic Integrity Objectives will be met with the following exceptions: Minor adjustments not to exceed a drop of one SIO level is allowable with the Forest Supervisor's approval; Temporary drops of more than one SIO level may be made during and immediately following project implementation providing they do not exceed three years in duration |
Fish and Wildlife Standards
S11: When occupied or suitable habitat for a threatened, endangered, proposed, candidate or sensitive (TEPCS) species is present on an ongoing or proposed project site, consider species guidance documents (see Appendix H) to develop project-specific or activity-specific design criteria. This guidance is intended to provide a range of possible conservation measures that may be selectively applied during site-specific planning to avoid, minimize or mitigate negative long-term effects on threatened, endangered, proposed, candidate or sensitive species and habitat. Involve appropriate resource specialists in the identification of relevant design criteria. Include review of species guidance documents in fire suppression or other emergency actions when and to the extent practicable | 36 CFR 219.9(a)(1); 36 CFR 219.9(a)(2).
S12: When implementing new projects in areas that provide for threatened, endangered, proposed, and candidate species, use design criteria and conservation practices (see Appendix H) so that discretionary uses and facilities promote the conservation and recovery of these species and their habitats. Accept short-term impacts where long-term effects would provide a net benefit for the species and its habitat where needed to achieve multiple-use objectives |
S22: Except where it may adversely affect threatened and endangered species, linear structures such as fences, major highways, utility corridors, bridge upgrades or replacements, and canals will be designed and built to allow for fish and wildlife movement |
S42: Include provisions for raptor safety when issuing permits for new power lines and communication sites (see guidelines in Appendix G). Also implement these guidelines for existing permits within one year in identified high-use flyways of the California condor, and within five years in other high-use raptor flyways. Coordinate with California Department of Fish and Game, U.S. Fish & Wildlife Service, and power agencies to identify the high-use flyways |
Soil, Water, and Riparian Standards
S45: All construction, reconstruction, operation and maintenance of tunnels on National Forest System lands shall use practices that minimize adverse effects on groundwater aquifers and their surface expressions | 36 CFR 219.8(a)(2)(ii-iv) and (a)(3)(i)(B, D, and E).
S47: When designing new projects in riparian areas, apply the Five-Step Project Screening Process for Riparian Conservation Areas as described in Appendix E—Five-Step Project Screening Process for Riparian Conservation Areas | 36 CFR 219.9(a)(1); 36 CFR 219.9(a)(2); 36 CFR 219.10(a)(3).
S49: Require fish passage instream flows associated with dams and impoundments where fish passage will enhance or restore native or selected nonnative fish distribution and not cause adverse effects to other native species |
S58: Evaluate geologic hazards and develop mitigations where risks to life, property or resources are identified when planning and implementing management activities |
Wild and Scenic River Standards
S59: Manage eligible wild and scenic river segments to perpetuate their free-flowing condition and proposed classifications and protect and enhance their outstandingly remarkable values and water quality through the suitability study period and until designated or released from consideration. When management activities are proposed that may compromise the outstandingly remarkable value(s), potential classification, or free-flowing character of an eligible wild and scenic river segment, a suitability study will be completed for that eligible river segment prior to initiating activities | 36 CFR 219.10(b)(v).
Heritage, Cultural and Historic Standards
S60: Until proper evaluation occurs, known heritage resource sites shall be afforded the same consideration and protection as those properties evaluated as eligible to the National Register of Historic Places | 36 CFR 219.10(a)(1); 36 CFR 219.10(b)(ii); 36 CFR 219.10(b)(iii).
S62: Protect the access to and the use of sensitive traditional tribal use areas |

USDA Forest Service Issuance of Special Use Authorizations

The issuance of any special use authorization(s) for this project would likely occur after FERC issues its final EIS. The issuance of a special use authorization is not subject to any additional administrative review process such as the Forest Service's post-decisional appeal process explained in 36 CFR part 214. This is because applicants do not hold any right to use National Forest System lands prior to being issued an authorization. The Forest Service retains the authority to deny authorizations based on violations of law or inconsistency with the Cleveland National Forest LMP (see generally 36 CFR part 219 Subpart B). The Forest Service cannot authorize a project that is inconsistent with the LMP as this would be a violation of the National Forest Management Act. Issuance of a special use authorization would be subject to the project complying with all applicable legal requirements and ensuring consistency with the Cleveland National Forest LMP.

Dated: June 18, 2020.
Nathaniel J. Davis, Sr.,
Deputy Secretary.

[FR Doc. 2020-13625 Filed 6-23-20; 8:45 am]

BILLING CODE 6717-01-P